DEPARTMENT OF ENERGY

Appliance Standards and Rulemaking Federal Advisory Committee

AGENCY: Department of Energy, Office of Energy Efficiency and Renewable Energy.

ACTION: Notice of Charter Renewal.

SUMMARY: Pursuant to Section 14(a)(2)(A) of the Federal Advisory Committee Act (Pub. L. 92-463), and in accordance with Title 41 of the Code of Federal Regulations, section 102-3.65(a), and following consultation with the Committee Management Secretariat, General Services Administration, notice is hereby given that the Appliance Standards and Rulemaking Federal Advisory Committee's (ASRAC) charter is being renewed.

The Committee will provide advice and recommendations to the Secretary of Energy on matters concerning the DOE's Appliances and Commercial Equipment Standards Program's (Program) test procedures and rulemaking process.

Additionally, the renewal of the ARSAC has been determined to be essential to conduct business of the Department of Energy's and to be the in the public interest in connection with the performance of duties imposed upon the Department of Energy, by law and agreement. The Committee will continue to operate in accordance with the provisions of the Federal Advisory Committee Act, the rules and regulations in implementation of that Act.

FOR FURTHER INFORMATION CONTACT: John Cymbalsky, Designated Federal Officer at (202) 287-1692.

Issued in Washington, DC, on April 15, 2016.
Amy Bodette,
Committee Management Officer.

[FR Doc. 2016-09388 Filed 4-21-16; 8:45 am]

BILLING CODE 6450-01-P